ARCHITECTURAL AND TRANSPORTATION BARRIERS COMPLIANCE BOARD

Meeting

AGENCY: Architectural and Transportation Barriers Compliance Board.

ACTION: Notice of meeting.

SUMMARY: The Architectural and Transportation Barriers Compliance Board (Access Board) has scheduled its regular business meetings to take place in Washington, DC on Tuesday and Wednesday, March 12-13, 2002, at the times and location noted below.

DATES: The schedule of events is as follows:

Tuesday, March 12, 2002

11:00 a.m.-Noon

Ad Hoc Committee—Public Rights-of-Way (Closed Meeting)

1:30 p.m.-5:00

Ad Hoc Committee—Public Rights-of-Way (Closed Meeting)

Wednesday, March 13, 2002

9:00 a.m.-10:00

Planning and Budget Committee

10:00 a.m.-11:00

Technical Programs Committee

11:00 a.m.-Noon

Nominating Committee

1:30 a.m.-3:00

Board Meeting

ADDRESSES: The meetings will be held at the Marriott at Metro Center Hotel, 775 12th Street, NW, Washington, DC.

FOR FURTHER INFORMATION CONTACT: For further information regarding the meetings, please contact Lawrence W. Roffee, Executive Director, (202) 272-0001 (voice) and (202) 272-5449 (TTY).

SUPPLEMENTARY INFORMATION: At the Board meeting, the Access Board will consider the following agenda items.

Open Meeting

• Executive Director's report

• Approval of the minutes of the January 9, 2002 board meeting

• Technical Programs Committee: On-going research and technical assistance projects.

• Planning and Budget Committee: Budget spending plan for fiscal year 2002; fiscal year 2003; and out-of-town meetings.

• Nominating Committee: Review of the Nominating Committee charter.

Closed Meeting

• Ad Hoc Committee on Public Rights-of-Way

All meetings are accessible to persons with disabilities. Sign language interpreters and an assistive listening system are available at all meetings. Persons attending Board meetings are requested to refrain from using perfume, cologne, and other fragrances for the comfort of other participants.

Lawrence W. Roffee,
Executive Director.

[FR Doc. 02-4430 Filed 2-22-02; 8:45 am]

BILLING CODE 8150-01-P